FEDERAL COMMUNICATIONS COMMISSION

[DA 03-1649]

Annual Adjustment of Revenue Thresholds

AGENCY: Federal Communications Commission.

ACTION: Notice.

SUMMARY: This notice announces that the 2002 revenue threshold between Class A carriers and Class B carriers is increased to $121 million. The 2002 revenue threshold between larger Class A carriers and mid-sized carriers is increased to $7.083 billion.

FOR FURTHER INFORMATION CONTACT: Debbie Weber, Pricing Policy Division, Wireline Competition Bureau at (202) 418-0812.

SUPPLEMENTARY INFORMATION: This is a summary of the Commission's Public Notice released May 13, 2003. This notice announces the inflation-adjusted 2002 revenue thresholds used for classifying carrier categories for various accounting and reporting purposes: (1) Distinguishing Class A carriers from Class B carriers; and (2) distinguishing larger Class A carriers from mid-sized carriers. The revenue threshold between Class A carriers and Class B carriers is increased to $121 million. The revenue threshold between larger Class A carriers and mid-sized carriers is increased to $7.083 billion. The revenue thresholds for 2002 were determined as follows:

| Mid-sized threshold | Larger Class A threshold
(1) GDP-CPI Base | 91.62 | 109.37
(2) 2002 GDP-CPI | 110.66 | 110.66
(3) Inflation Factor (line 2 ÷ 1) | 1.2078 | 1.0118
(4) Original Revenue Threshold | $100 million | $7 billion
(5) 2002 Revenue Threshold (line 3 * 4) | $121 million | $7.083 billion

Federal Communications Commission.
Tamara L. Preiss,
Chief, Pricing Policy Division.

[FR Doc. 03-13233 Filed 5-27-03; 8:45 am]

BILLING CODE 6712-01-P